DEPARTMENT OF HEALTH AND HUMAN SERVICES

National Institutes of Health

National Cancer Institute; Amended Notice of Meeting

Notice is hereby given of a change in the meeting of the National Cancer Advisory Board, June 11-12, 2009, 8 a.m. to 12 p.m., National Institutes of Health, Building 31, 31 Center Drive, Bethesda, MD 20892, which was published in the Federal Register on May 14, 2009, 74 FR 22753.

This notice is amended to change the times of the open session on June 11, 2009 to 8:30 a.m. to 3:30 p.m. and the closed session to 3:30 p.m. to 5 p.m. Additionally, the open session on June 12, 2009 has been cancelled.

Dated: May 28, 2009.
Jennifer Spaeth,
Director, Office of Federal Advisory Committee Policy.

[FR Doc. E9-13274 Filed 6-5-09; 8:45 am]

BILLING CODE 4140-01-P